DEPARTMENT OF THE INTERIOR

Fish and Wildlife Service

50 CFR Part 17

[FF09E21000 FXES11110900000212]

Endangered and Threatened Wildlife and Plants; 90-Day Findings for Three Species

AGENCY: Fish and Wildlife Service, Interior.

ACTION: Notice of petition findings and initiation of status reviews.

SUMMARY: We, the U.S. Fish and Wildlife Service (Service), announce 90-day findings on three petitions to add species to the Lists of Endangered and Threatened Wildlife and Plants under the Endangered Species Act of 1973, as amended (Act). Based on our review, we find that the petitions present substantial scientific or commercial information indicating that the petitioned actions may be warranted. Therefore, with the publication of this document, we announce that we plan to initiate status reviews of the Aztec gilia (Aliciella formosa), Clover's cactus (Sclerocactus cloverae), and Suckley's cuckoo bumble bee (Bombus suckleyi) to determine whether the petitioned actions are warranted. To ensure that the status reviews are comprehensive, we are requesting scientific and commercial data and other information regarding the species and factors that may affect their status. Based on the status reviews, we will issue 12-month petition findings, which will address whether or not the petitioned actions are warranted, in accordance with the Act.

DATES: These findings were made on May 11, 2021. As we commence our status reviews, we seek any new information concerning the status of, or threats to, the species or their habitats. Any information we receive during the course of our status reviews will be considered.

ADDRESSES:

Supporting documents: Summaries of the basis for the petition findings contained in this document are available on http://www.regulations.gov under the appropriate docket number (see table under SUPPLEMENTARY INFORMATION). In addition, this supporting information is available by contacting the appropriate person, as specified in FOR FURTHER INFORMATION CONTACT.

Status reviews: If you have new scientific or commercial data or other information concerning the status of, or threats to, the species for which we are initiating status reviews, please provide those data or information by one of the following methods:

(1) Electronically: Go to the Federal eRulemaking Portal: http://www.regulations.gov. In the Search box, enter the appropriate docket number (see table under SUPPLEMENTARY INFORMATION). Then, click on the “Search” button. After finding the correct document, you may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail to: Public Comments Processing, Attn: [Insert appropriate docket number; see table under SUPPLEMENTARY INFORMATION], U.S. Fish and Wildlife Service, MS: PRB/3W, 5275 Leesburg Pike, Falls Church, VA 22041-3803.

We request that you send information only by the methods described above. We will post all information we receive on http://www.regulations.gov. This generally means that we will post any personal information you provide us.

FOR FURTHER INFORMATION CONTACT:

Species common name | Contact person
Aztec gilia | Shawn Sartorius, Field Supervisor, New Mexico Ecological Services Field Office, 505-761-4781; shawn_sartorius@fws.gov.
Clover's cactus | Shawn Sartorius, Field Supervisor, New Mexico Ecological Services Field Office, 505-761-4781; shawn_sartorius@fws.gov.
Suckley's cuckoo bumble bee | Sarah Conn, Project Leader, Fairbanks Fish and Wildlife Conservation Office, 907-456-0499; sarah_conn@fws.gov.

If you use a telecommunications device for the deaf, please call the Federal Relay Service at 800-877-8339.

SUPPLEMENTARY INFORMATION:

Background

Section 4 of the Act (16 U.S.C. 1533) and its implementing regulations in title 50 of the Code of Federal Regulations (50 CFR part 424) set forth the procedures for adding species to, removing species from, or reclassifying species on the Federal Lists of Endangered and Threatened Wildlife and Plants (Lists or List) in 50 CFR part 17. Section 4(b)(3)(A) of the Act requires that we make a finding on whether a petition to add a species to the List (i.e., “list” a species), remove a species from the List (i.e., “delist” a species), or change a listed species' status from endangered to threatened or from threatened to endangered (i.e., “reclassify” a species) presents substantial scientific or commercial information indicating that the petitioned action may be warranted. To the maximum extent practicable, we are to make this finding within 90 days of our receipt of the petition and publish the finding promptly in the Federal Register.

Our regulations establish that substantial scientific or commercial information with regard to a 90-day petition finding refers to credible scientific or commercial information in support of the petition's claims such that a reasonable person conducting an impartial scientific review would conclude that the action proposed in the petition may be warranted (50 CFR 424.14(h)(1)(i)).

A species may be determined to be an endangered species or a threatened species because of one or more of the five factors described in section 4(a)(1) of the Act (16 U.S.C. 1533(a)(1)). The five factors are:

(a) The present or threatened destruction, modification, or curtailment of its habitat or range (Factor A);

(b) Overutilization for commercial, recreational, scientific, or educational purposes (Factor B);

(c) Disease or predation (Factor C);

(d) The inadequacy of existing regulatory mechanisms (Factor D); and

(e) Other natural or manmade factors affecting its continued existence (Factor E).

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to, or are reasonably likely to, affect individuals of a species negatively. The term “threat” includes actions or conditions that have a direct impact on individuals (direct impacts), as well as those that affect individuals through alteration of their habitat or required resources (stressors). The term “threat” may encompass—either together or separately—the source of the action or condition, or the action or condition itself. However, the mere identification of any threat(s) may not be sufficient to compel a finding that the information in the petition is substantial information indicating that the petitioned action may be warranted. The information presented in the petition must include evidence sufficient to suggest that these threats may be affecting the species to the point that the species may meet the definition of an endangered species or threatened species under the Act.

If we find that a petition presents such information, our subsequent status review will evaluate all identified threats by considering the individual-, population-, and species-level effects and the expected response by the species. We will evaluate individual threats and their expected effects on the species, then analyze the cumulative effect of the threats on the species as a whole. We also consider the cumulative effect of the threats in light of those actions and conditions that are expected to have positive effects on the species—such as any existing regulatory mechanisms or conservation efforts that may ameliorate threats. It is only after conducting this cumulative analysis of threats and the actions that may ameliorate them, and the expected effect on the species now and in the foreseeable future, that we can determine whether the species meets the definition of an endangered species or threatened species under the Act. If we find that a petition presents substantial scientific or commercial information indicating that the petitioned action may be warranted, the Act requires that we promptly commence a review of the status of the species, and we will subsequently complete a status review in accordance with our prioritization methodology for 12-month findings (81 FR 49248; July 27, 2016).

Summaries of Petition Findings

The petition findings contained in this document are listed in the table below, and the basis for each finding, along with supporting information, is available on http://www.regulations.gov under the appropriate docket number.

Table—Status Reviews
Common name | Docket No. | URL to docket on http://www.regulations.gov
Aztec gilia | FWS-R2-ES-2020-0095 | https://www.regulations.gov/docket?D=FWS-R2-ES-2020-0095.
Clover's cactus | FWS-R2-ES-2020-0096 | https://www.regulations.gov/docket?D=FWS-R2-ES-2020-0096.
Suckley's cuckoo bumble bee | FWS-R7-ES-2020-0097 | https://www.regulations.gov/docket?D=FWS-R7-ES-2020-0097.

Evaluation of a Petition To List Aztec Gilia

Species and Range

Aztec gilia (Aliciella formosa); New Mexico.

Previous Federal Actions

On June 11, 2020, we received a petition dated May 29, 2020, from WildEarth Guardians requesting that the Aztec gilia be listed as an endangered or threatened species and critical habitat be designated for this species under the Act. The petition clearly identified itself as such and included the requisite identification information for the petitioner, required at 50 CFR 424.14(c). This finding addresses the petition.

Finding

Based on our review of the petition and sources cited in the petition, we find that the petition presents substantial scientific or commercial information indicating the petitioned action may be warranted for the Aztec gilia due to potential threats associated with the following: Oil and gas development, off-road vehicle use, and livestock grazing (Factor A); predation (Factor C); and climate change (Factor E). The petition also presented substantial information that existing regulatory mechanisms may be inadequate to address impacts of these threats (Factor D).

The basis for our finding on this petition, and other information regarding our review of the petition, can be found as an appendix at http://www.regulations.gov under Docket No. FWS-R2-ES-2020-0095 under the Supporting Documents section.

Evaluation of a Petition To List Clover's Cactus

Species and Range

Clover's cactus (Sclerocactus cloverae); New Mexico, Colorado.

Previous Federal Actions

On June 11, 2020, we received a petition dated May 29, 2020, from WildEarth Guardians requesting that the Clover's cactus be listed as an endangered or threatened species and critical habitat be designated for this species under the Act. The petition clearly identified itself as such and included the requisite identification information for the petitioner, required at 50 CFR 424.14(c). This finding addresses the petition.

Finding

Based on our review of the petition and sources cited in the petition, we find that the petition presents substantial scientific or commercial information indicating the petitioned action may be warranted for the Clover's cactus due to potential threats associated with the following: Oil and gas development, off-road vehicle use, and livestock grazing (Factor A); illegal collection (Factor B); predation (Factor C); and climate change (Factor E). The petition also presented substantial information that existing regulatory mechanisms may be inadequate to address impacts of these threats (Factor D). We will fully evaluate these potential threats during our 12-month status review, pursuant to the Act's requirement to review the best available scientific information when making that finding.

The basis for our finding on this petition, and other information regarding our review of the petition, can be found as an appendix at http://www.regulations.gov under Docket No. FWS-R2-ES-2020-0096 under the Supporting Documents section.

Evaluation of a Petition To List Suckley's Cuckoo Bumble Bee

Species and Range

Suckley's cuckoo bumble bee (Bombus suckleyi); Alaska, California, Oregon, Washington, Idaho, Colorado, Montana, North Dakota, South Dakota, and New York; Canada: British Columbia, Yukon, Northwest Territories, Alberta, Saskatchewan, Manitoba, Ontario, Quebec, Nova Scotia, and Newfoundland and Labrador.

Previous Federal Actions

On April 23, 2020, we received a petition dated April 23, 2020, from the Center for Biological Diversity, requesting that Suckley's cuckoo bumble bee be listed as an endangered species and critical habitat be designated for this species under the Act. The petition clearly identified itself as such and included the requisite identification information for the petitioner, required at 50 CFR 424.14(c). This finding addresses the petition.

Finding

Based on our review of the petition and sources cited in the petition, we find that the petition presents substantial scientific or commercial information indicating the petitioned action may be warranted for the Suckley's cuckoo bumble bee due to potential threats associated with the following: Livestock grazing and habitat loss from fire management (Factor A); disease or loss of hosts and potential host transmission (Factor C); pesticide use for bark beetle management, agricultural intensification, effects of climate change, loss of genetic diversity, and synergistic effects (Factor E). The petition also presented substantial information that existing regulatory mechanisms may be inadequate to address impacts of these threats (Factor D). We will fully evaluate these potential threats during our 12-month status review, pursuant to the Act's requirement to review the best available scientific information when making that finding.

The basis for our finding on this petition, and other information regarding our review of the petition, can be found as an appendix at http://www.regulations.gov under Docket No. FWS-R7-ES-2020-0097 under the Supporting Documents section.

Conclusion

On the basis of our evaluation of the information presented in the petitions under sections 4(b)(3)(A) and 4(b)(3)(D)(i) of the Act, we have determined that the petitions summarized above for Aztec gilia, Clover's cactus, and Suckley's cuckoo bumble bee present substantial scientific or commercial information indicating that the petitioned actions may be warranted. We are, therefore, initiating status reviews of these species to determine whether the actions are warranted under the Act. At the conclusion of the status reviews, we will issue findings, in accordance with section 4(b)(3)(B) of the Act, as to whether the petitioned actions are not warranted, warranted, or warranted but precluded by pending proposals to determine whether any species is an endangered species or a threatened species.

Authors

The primary authors of this document are staff members of the Ecological Services Program, U.S. Fish and Wildlife Service.

Authority

The authority for these actions is the Endangered Species Act of 1973, as amended (16 U.S.C. 1531 et seq.).

Martha Williams,
Principal Deputy Director, Exercising the Delegated Authority of the Director, U.S. Fish and Wildlife Service.

[FR Doc. 2021-09707 Filed 5-10-21; 8:45 am]

BILLING CODE 4333-15-P